ENVIRONMENTAL PROTECTION AGENCY

[ER-FRL-6669-04]

Environmental Impacts Statements; Notice of Availability

Responsible Agency: Office of Federal Activities, General Information (202) 564-7167 or http://www.epa.gov/compliance/nepa/.

Weekly receipt of Environmental Impact Statements

Filed November 7, 2005 Through November 10, 2005.

Pursuant to 40 CFR 1506.9.

EIS No. 20050471, Draft EIS, AFS, WY, Moose-Gypsum Project, Proposes to Authorize Vegetation Treatments, Watershed Improvements, and Travel Plan and Recreation Updates, Pinedale Ranger District, Bridger-Teton National Forest, Sublette County, WY, Comment Period Ends:

January 3, 2006, Contact: Craig Trulock 307-367-4326.

EIS No. 20050472, Second Draft Supplement, AFS, CO, Sheep Flats Diversity Unit, Timber Sales and Related Road Construction, Additional Information Regarding Wildlife Resources, Grand Mesa Uncompahgre and Gunnison National Forests, Grand Valley Ranger District, Mesa County, CO, Comment Period Ends: January 3, 2006, Contact: Carol McKenzie 208-634-0761.

EIS No. 20050473, Draft EIS, COE, MT, Upper Columbia Alternative Flood Control and Fish Operations, Implementation, Libby and Hungry Horse Dams, Columbia River Basin, MT, Comment Period Ends: January 3, 2006, Contact: Evan Lewis 206-764-6922.

EIS No. 20050474, Final EIS, COE, CA, Mare Island Reuse of Dredged Material Disposal Ponds as a Confirmed Updated Dredged Material Disposal Facility, Issuing Section 404 Permit Clean Water Act and Section 10 Permit Rivers and Harbor Act, San Francisco Bay Area, City of Vallejo, Solando County, CA , Wait Period Ends: December 19, 2005, Contact: Robert J. Lawrence 415-977-8020.

EIS No. 20050475, Final EIS, AFS, NM, Invasive Plant Control Project, Protection of the Abundance and Biological Diversity of Desired Native Plant, Carson National Forest and Santa Fe National Forest, Rio Arriba, Colfax, Los Alamos, Mora, San Miguel and Santa Fe Counties, NM, Wait Period Ends: December 19, 2005, Contact: Sanford Hurlocker 505-753-7331.

EIS No. 20050476, Final Supplement, AFS, AK, Emerald Bay Timber Sale, Implementation, Additional Information on the Potential Effects of the Project Alternatives, Ketchikan-Misty Fiords Ranger District, Tongass National Forest, AK, Wait Period Ends: December 19, 2005, Contact: Rob Reeck 907-228-4114.

EIS No. 20050477, Final EIS, COE, AZ, Santa Cruz River, Paseo de las Iglesias Feasibility Study, To Identify, Define and Solve Environmental Degradation, Flooding and Water Resource Problems, City of Tucson, Pima County, AZ, Wait Period Ends: December 19, 2005, Contact: Michael J. Fink 602-640-2001 Ext. 252.

EIS No. 20050478, Second Final EIS (Tiering), FHW, MO, Interstate 70 Corridor Improvements, Section of Independent Utility #4, from Missouri Route BB Interchange to Eastern Columbia, Funding, Boone County, MO, Wait Period Ends: December 19, 2005, Contact: Peggy Casey 573-636-7104.

EIS No. 20050479, Final EIS, SFW, 00, Resident Canada Goose Management Plan, Evaluate Alternatives Strategies to Reduce, Manage, and Resident Canada Goose Population, Implementation, within the Conterminous U.S., Wait Period Ends: December 19, 2005, Contact: Ron Kokel 703-358-1714.

EIS No. 20050480, Final EIS, NOA, CA, PROGRAMMATIC—Montrose Settlements Restoration Plan, Restoration of Inquired Natural Resources, Channel Islands, Southern California Bight, Baja California Pacific Islands, Orange County, CA, Wait Period Ends: December 19, 2005, Contact: Greg Baker 301-713-1622.

This document is available on the Internet at: http://www.montrose.restoration.gov.

EIS No. 20050481, Draft EIS, FTA, MO, St. Louis Metro South Metrolink Extension, Transportation Improvement, City of St. Louis, St. Louis County, MO, Comment Period Ends: January 6, 2006, Contact: Joan Roeseler 816-329-3936.

EIS No. 20050482, Final EIS, AFS, WY, Cottonwood II Vegetation Management Project, Vegetation Management in the North and South Cottonwood Creek Drainages, Implementation, Bridger-Teton National Forest, Big Piney Ranger District, Sublette County, WY, Wait Period Ends: December 19, 2005, Contact: Jeff Laub 307-276-3375.

EIS No. 20050483, Draft Supplement, UAF, 00, Realistic Bomber Training Initiative, Addressees Impacts of Wake Vortices on Surface Structures, Dyess Air Force Base, TX and Barksdale Air Force Base, LA, Comment Period Ends: January 3, 2006, Contact: Sheryl Parker 757-764-9334.

EIS No. 20050484, Draft EIS, COE, CA, American River Watershed, Lower American River Common Features Mayhew Levee Project, Reconstruction, Sacramento County, CA, Comment Period Ends: January 3, 2006, Contact: Robert Koenigs 916-557-6712.

EIS No. 20050485, Final EIS, FRC, CA, Upper North Fork Feather River Project (FERC No. 2105), Issuance of a New License for existing 3517.3 megawatt (MW) Hydroelectric Facility located in North Fork Feather River and Butt Creek, Plumas County, CA, Wait Period Ends: December 19, 2005, Contact: Thomas Russo 1-866-208-3372.

This document is available on the Internet at: http://www.ferc.gov.

Dated: November 15, 2005.
Elaine Suriano,
Environmental Scientist, Office of Federal Activities.

[FR Doc. 05-22888 Filed 11-17-05; 8:45 am]

BILLING CODE 6560-50-P